ENVIRONMENTAL PROTECTION AGENCY

[FRL-10194-01-OA]

National Environmental Justice Advisory Council Notice of Charter Renewal

AGENCY: Environmental Protection Agency (EPA).

ACTION: Notice of charter renewal.

SUMMARY: Notice is hereby given that the Environmental Protection Agency (EPA) has determined that, in accordance with the provisions of the Federal Advisory Committee Act (FACA), the National Environmental Justice Advisory Council (NEJAC) is necessary and in the public interest in connection with the performance of duties imposed on the agency by law. Accordingly, NEJAC will be renewed for an additional two-year period. The purpose of the NEJAC is to provide advice and recommendations to the Administrator about issues associated with integrating environmental justice concerns into EPA's outreach activities, public policies, science, regulatory, enforcement, and compliance decisions.

FOR FURTHER INFORMATION CONTACT: Inquiries may be directed to Paula Flores-Gregg, NEJAC Designated Federal Officer, U.S. EPA, 1200 Pennsylvania Avenue NW (Mail Code 2202A), Washington, DC 20460; by telephone at (214) 665-8123; via email at nejac@epa.gov.

Matthew Tejada,
Director for the Office of Environmental Justice.

[FR Doc. 2022-19668 Filed 9-12-22; 8:45 am]

BILLING CODE 6560-50-P